Title 3—

The President

Proclamation 10391 of May 5, 2022

Military Spouse Appreciation Day, 2022

By the President of the United States of America

A Proclamation

Military spouses are the rock on which their families, our military community, and our national security depend. Though most do not wear a uniform themselves, they serve and strengthen our Nation every day—providing our brave troops with support, comfort, and love. They build communities of strength on bases around the world to care for our military family, pitching in wherever they see a need that is unmet. On Military Spouse Appreciation Day, we recognize the nearly one million military spouses and their vital contributions to our Nation. We are grateful for their selfless sacrifice and inspired by their strength, fortitude, and courage.

Today, America's military spouses are a constellation of diverse individuals with unique backgrounds and the common attribute of uncommon resilience. Like their service members, they too represent the best of who we are as Americans. Military spouses know what it means to make sacrifices in defense of our ideals and freedoms. And they live with the hardship of having their life partner deployed away from home—juggling all the responsibilities of work and family while saying an extra prayer every morning that their spouse returns home safely.

Even during the most demanding circumstances, military spouses continue to serve, creating innovative solutions to meet the challenges we face as a Nation. Today, military spouses serve in dynamic leadership roles across all sectors—using their own experiences to support the needs of the communities around them. With enthusiasm and an entrepreneurial spirit, military spouses create businesses and support systems that serve the needs of others.

The Biden family is a military family, and caring for our Nation's military spouses is something that Jill and I both deeply understand. While our Nation can never fully repay the debt we owe to our service members and their families, caregivers, and survivors, it is our sacred obligation to make sure that they receive the care and support they have earned. Through the First Lady's Joining Forces initiative, my Administration is strengthening support for military families in three critical areas: military spouse employment and entrepreneurship, military child education, and the well-being of military families. We continue to seek new and better ways to do more to address the needs of our military families, especially responding to the needs of military spouses with resources and services that allow them to thrive in all aspects of life.

On Military Spouse Appreciation Day and every day, we are grateful for the extraordinary service and sacrifice of America's military spouses. May we continue to lift their voices, invest in their talents, and respond to their unique needs in ways that ease their challenges and enable them to reach their goals and aspirations. May God bless our military families, caregivers, and survivors, and may God protect our troops.

NOW, THEREFORE, I, JOSEPH R. BIDEN JR., President of the United States of America, by virtue of the authority vested in me by the Constitution and the laws of the United States, do hereby proclaim May 6, 2022, as Military Spouse Appreciation Day. I call upon the people of the United States to honor military spouses with appropriate ceremonies and activities.

IN WITNESS WHEREOF, I have hereunto set my hand this fifth day of May, in the year of our Lord two thousand twenty-two, and of the Independence of the United States of America the two hundred and forty-sixth.

[FR Doc. 2022-10097

Filed 5-6-22; 11:15 am]

Billing code 3395-F2-P